DEPARTMENT OF HEALTH AND HUMAN SERVICES

Health Resources and Services Administration

Part C Early Intervention Services Grant

AGENCY: Health Resources and Services Administration, HHS.

ACTION: Notice of Noncompetitive Replacement Award to Joseph P. Addabbo Family Health Center.

SUMMARY: The Health Resources and Services Administration (HRSA) will be transferring Ryan White HIV/AIDS Part C Early Intervention Services Grant funds (authorized by Title XXVI of the Public Health Service Act) originally awarded to Caritas Health Care, Inc., to the Joseph P. Addabbo Family Health Center in order to ensure continuity of critical HIV medical care and treatment services to clients in Jamaica/Southeast Queens, Borough of Queens, New York City, New York.

SUPPLEMENTARY INFORMATION: Former Grantee of Record: Caritas Health Care, Inc.

Original Period of Grant Support: July 1, 2006, to June 30, 2011.

Replacement Awardee: Joseph P. Addabbo Family Health Center.

Amount of Replacement Award: $388,253.

Period of Replacement Award: The period of support for the replacement award is March 1, 2009, to March 31, 2010.

Authority: Section 2651 of the Public Health Service Act, 42 U.S.C. 300ff-51.

CFDA Number: 93.918.

Justification for the Exception to Competition: The former grantee, Caritas Health Care, Inc., notified HRSA that it would not continue providing services after February 28, 2009, as it is ceasing operations. It is critical that there be continuity in the medical care and treatment of approximately 430 low-income patients with HIV/AIDS in the original service area, Jamaica/Southeast Queens, Borough of Queens, New York City, in New York. The Joseph P. Addabbo Family Health Center is located in the same geographical area previously served by Caritas Health Care, Inc., is a current Part C grantee with an established record of providing critical HIV/AIDS care and treatment, and has purchased the St. Dominic's Family Health Center facility, one of the sites where the Ryan White services for Caritas Health Care, Inc., were provided. This temporary replacement award will ensure that there is no disruption of critical care and services to the service population while the service area is re-competed.

This service area will be included in the upcoming competition for the Part C HIV Early Intervention Services competing application process for project periods starting April 1, 2010.

FOR FURTHER INFORMATION CONTACT: Maria C. Rios, via e-mail mrios@hrsa.gov, or via telephone, 301-443-0493.

Dated: April 17, 2009.
Mary K. Wakefield,
Administrator.

[FR Doc. E9-9516 Filed 4-24-09; 8:45 am]

BILLING CODE 4165-15-P